DEPARTMENT OF THE INTERIOR

Fish and Wildlife Service

Notice of Availability of the Holston River/Saltville National Priority List Site Natural Resource Damage Assessment Plan Which Encompasses Smyth and Washington Counties, Virginia, and Hawkins and Sullivan Counties, TN

AGENCY: Fish and Wildlife Service, Department of the Interior.

ACTION: Notice of availability.

SUMMARY: The U.S. Fish and Wildlife Service (Service), on behalf of the U.S. Department of the Interior, the Commonwealth of Virginia, the State of Tennessee, and the Tennessee Valley Authority, jointly referred to as the Saltville National Priority List (NPL) Site Trustee Council, announces the release for public review of the Holston River/Saltville NPL Site Natural Resource Damage Assessment (NRDA) Plan (Plan) which encompasses Smyth and Washington Counties, Virginia, and Hawkins and Sullivan Counties, Tennessee. The Plan describes the Trustee's proposal to assess potential injury to natural resources as a result of a release of hazardous substances.

DATES: Written comments must be submitted within 30 days of this notice.

ADDRESSES: Requests for copies of the Plan may be made to: U.S. Fish and Wildlife Service, Virginia Field Office, 6669 Short Lane, Gloucester, Virginia 23061. Written comments regarding the Plan should be sent to the same address.

FOR FURTHER INFORMATION CONTACT: John Schmerfeld, U.S. Fish and Wildlife Service, 6669 Short Lane, Gloucester, Virginia 23061. Interested parties may also call 804-693-6694, extension 107, for further information.

SUPPLEMENTARY INFORMATION: The Saltville NPL Site (Site) is located along the North Fork Holston River (NFHR) which flows through Smyth and Washington Counties, Virginia. The NFHR joins the South Fork Holston River to form the main stem Holston River (MHR) near Virginia's southern border with Tennessee. The NFHR and MHR (hereafter jointly referred to, with associated floodplains, as the “River”) flow through Sullivan and Hawkins Counties, Tennessee, before entering the John Sevier Detention Reservoir and the Cherokee Dam. These contiguous areas and bodies of water comprise the geographical focus of this assessment. Due to hazardous substances released from industrial activities, the Site was included on the NPL in 1983 by the U.S. Environmental Protection Agency (EPA). Several operable units associated with the Site have been identified for remedial activities. Operable Unit 4 includes the Former Chlorine Plant site and the River and is the focus of this NRDA. Remedial activities for Operable Unit 4 are ongoing. The EPA is acting as the lead response agency overseeing remedial activities at the Site and Operable Unit 4.

Under subpart G of the National Oil and Hazardous Substance Pollution Contingency Plan, 40 CFR 300.600-.610 and Executive Order 12580, the Federal government, States, and Indian tribes are authorized as natural resource trustees to recover damages from responsible parties for injuries to natural resources caused by the release of hazardous substances. This process is intended to compensate the public for lost natural resources and to restore services provided by those resources. The natural resource trustees for this matter include:

—The U.S. Department of the Interior

—The Commonwealth of Virginia

—The State of Tennessee

—The Tennessee Valley Authority

The Trustees have developed a Memorandum of Agreement that provides a framework for continued cooperation and coordination. The Trustees have determined through a Preassessment Screen that further investigation and assessment is warranted. A Notice of Intent to Perform an Assessment (NOI) was issued to the Potentially Responsible Party (PRP) in July 2003, indicating that the Trustees intend to proceed with NRDA procedures for the River. The NOI invited the PRP to participate in a cooperative injury assessment.

The purpose of this Plan is to guide the actions of the Trustees through the NRDA process. Before proceeding, the Trustees must document that potentially injured resources have been exposed to hazardous substances released from the Site. This confirmation of exposure in the River focuses primarily on mercury, which is associated with past operations at the Site and continuing contamination of the River. Mercury concentrations in river sediments, groundwater, floodplain soils and biota are elevated in comparison to other areas within the Upper Tennessee River Basin. Mercury has been detected in water, sediments, soils, algae, invertebrates, fish, mammals, and birds downstream from the Site. This exposure indicates that natural resources may have been injured as a result of releases of hazardous substances from the Site. The Trustees therefore believe that further assessment of these injuries is warranted.

This Plan outlines the Trustees' proposed plans to document and evaluate potentially injured resources in the River. The Trustees intend to focus on the loss of ecological and human use services resulting from injuries to natural resources. Such lost services may include impairment of floodplain and aquatic flora and fauna, supporting habitats, and public use (e.g., consumption) of fish, wildlife, and other natural resources.

The Trustees will assess suspected injuries to surface water, biological receptors, ground water, and/or geological resources using data and information currently available, as well as that proposed to be collected as part of the assessment. The Trustees will further analyze the identified natural resource injuries to evaluate the lost ecological and human use services provided by those resources. The evaluation will focus on baseline services that would have been provided had the hazardous substances not been released.

Interested members of the public are invited to review and comment on the Plan. Copies of the Plan are available for review at the Service's Virginia Field Office in Gloucester, Virginia, and at the Service's Southwestern Virginia Field Office located at 330 Cummings Street, Suite A, Abingdon, Virginia 24210.

Comments, including names and home addresses of respondents, will be available for public review during regular business hours. Individual respondents may request confidentiality. If you wish us to withhold your name and or address from public review or from disclosure under the Freedom of Information Act, you must state this prominently at the beginning of your written comment. Such requests will be honored to the extent allowed by law. We will not, however, consider anonymous comments. All submissions from organizations or businesses, and from individuals identifying themselves as representatives or officials of organizations or businesses, will be made available for public inspection in their entirety.

Author: The primary author of this notice, on behalf of the Trustee Council, is John Schmerfeld, U.S. Fish and Wildlife Service, Virginia Field Office, 6669 Short Lane, Gloucester, Virginia 23061.

Authority: The authority for this public review of the Plan announced by this notice is 43 CFR 11.32(c) action is the Comprehensive Environmental Response, Compensation and Liability Act of 1980 as amended, commonly known as Superfund (42 U.S.C. 9601 et seq.), and the Natural Resource Damage Assessment Regulations found at 43 CFR part 11.

Dated: August 14, 2003.
James G. Geiger,
Acting Regional Director, Region 5, Fish and Wildlife Service, Department of the Interior, Designated Authorized Official.

[FR Doc. 03-23391 Filed 9-12-03; 8:45 am]

BILLING CODE 4310-55-P